DEPARTMENT OF THE INTERIOR

Bureau of Land Management

[OR-930-6310-PN-LITU; HAG 07-0141]

Notice of Availability of the Record of Decision To Amend Resource Management Plans To Remove the Survey and Manage Mitigation Measure Standards and Guidelines

AGENCY: Department of the Interior, Bureau of Land Management.

ACTION: Notice of availability.

SUMMARY: In accordance with the National Environmental Policy Act (NEPA, 42 U.S.C. 4321 et seq.), and the Federal Land Policy and Management Act (FLPMA, 43 U.S.C. 1701 et seq.), the Bureau of Land Management (BLM) announces the availability of the Record of Decision (ROD) to amend selected portions of the 1994 Record of Decision for the Northwest Forest Plan by removing the Survey and Manage Mitigation Measure Standards and Guidelines. The ROD amends Resource Management Plans for the BLM Districts in western Oregon and northwestern California. The U.S. Forest Service is expected to concurrently announce a similar decision amending their respective Land and Resource Management Plans.

Under the Northwest Forest Plan, Survey and Manage added conservation measures for rare and little known species to BLM and U.S. Forest Service requirements for providing for late successional and old growth forest-related species. These Survey and Manage Standards and Guidelines had made it difficult for the BLM and the U.S. Forest Service to meet the other resource management goals set forth in the Northwest Forest Plan (i.e. timber harvest, hazardous fuels treatment, and ecosystem restoration). Although the Survey and Manage Standards and Guidelines are removed with this decision, conservation of rare and little known species will continue to be accomplished through the other elements of the Northwest Forest Plan and the BLM and U.S. Forest Service's Special Status Species Programs.

ADDRESSES: The Requests to receive copies of the ROD should be sent to Carol Hughes, P.O. Box 3623, Portland, OR 97208-3623, or submit e-mail to ORSMSEIS@blm.gov. Alternatively, the ROD is available on the Internet at http://www.reo.gov/s-m2006. Copies will be available for inspection after August 3, 2007 at BLM offices in western Oregon and northwestern California. Copies of the Draft, Supplement to the Draft, and Final Supplement to the 2004 Supplemental Environmental Impact Statement are also available at the above address and on the Internet.

FOR FURTHER INFORMATION CONTACT: Michael Haske, Chief, Branch of Forest Resources and Special Status Species, Bureau of Land Management, P.O. Box 2965, Portland, OR 97208, telephone (503) 808-6066.

SUPPLEMENTARY INFORMATION: In June 2007, the BLM and U.S. Forest Service released a Final Supplement to the 2004 Final Supplemental Environmental Impact Statement (FSEIS) to Remove or Modify the Survey and Manage Mitigation Measure Standards and Guidelines. The Final Supplement presented the entire 2004 analysis, updated for new information and supplemented to include:

—Responses to three deficiencies identified in August 2005 by the U.S. District Court for the Western District of Washington, and;

—An additional alternative to respond to implications of a November 2006 decision by the U.S. Court of Appeals for the Ninth Circuit relative to the red tree vole on the BLM's Cow Catcher and Cottonsnake Timber Sales in Oregon.

The analysis covered 337 species of fungi, bryophytes, lichens, mollusks, vascular plants, and 7 species of vertebrates. The analysis showed that, compared to the No Action Alternatives, 53 species would have insufficient habitat in all or a portion of their Northwest Forest Plan range to support stable populations. However, the analysis points out that these species are generally either secure in other areas of their range or that State Heritage programs do not rate them imperiled enough to qualify for the BLM and U.S. Forest Service's Special Status Species Programs. The analysis also shows the selected alternative improves the BLM and U.S. Forest Service's ability to achieve other Northwest Forest Plan objectives.

Based on the Final Supplement, a similar and nearly simultaneous decision is expected from the Department of Agriculture affecting 19 National Forest Land and Resource Management Plans, but the Department of the Interior decision is not dependent upon it.

Four alternatives were considered in detail in the Final Supplement. In addition to two action alternatives, two no-action alternatives were included to examine Survey and Manage both with and without changes made by the prescribed 2001, 2002, and 2003 Annual Species Reviews. These reviews were reconsidered in the Final Supplement because in November 2006, the U.S. Court of Appeals for the Ninth Circuit ruled the 2001 and 2003 Annual Species Review decisions for the red tree vole should have included additional NEPA analysis.

The ROD also effectively removes the Survey and Manage mitigation measure from the 5,400-acre Coquille Forest, since by agreement, the Coquille Forest follows the requirements of the Northwest Forest Plan on the adjacent BLM Coos Bay District.

Readers should note this ROD was signed by the Assistant Secretary, Land and Minerals Management. Therefore, no administrative review (“protest”) through the BLM was available on the Final Supplement under 43 CFR 1610.5-2.

The Governors of Oregon and Washington were provided with copies of the Final Supplement and proposed action on May 8, 2007 for 60-day consistency review. No inconsistencies with State or local plans, policies, or programs were identified during the Governors' consistency review of the proposed plan amendments.

Edward W. Shepard,
State Director, OR/WA, USDI Bureau of Land Management.

[FR Doc. E7-14664 Filed 7-26-07; 8:45 am]

BILLING CODE 4310-33-P